DEPARTMENT OF TRANSPORTATION

Federal Aviation Administration

RTCA; Joint Special Committee 190 (Application Guidelines for DO-178B (Software) /EUROCAE Working Group 52

Pursuant to section 10(a) (2) of the Federal Advisory Committee Act (Pub. L. 92-463, 5 U.S.C., Appendix 2), notice is hereby given for Joint Special Committee (SC)-190 /EUROCAE Working Group (WG)-52 meeting to be held March 6-10, 2000, starting at 9:00 am. on Monday, March 6. The meeting will be held at The Boeing Long Beach Division, 3855 Lakewood Blvd., Long Beach, California.

The agenda will include the following: March 6: 9 a.m.-3 p.m. (1) Plenary Session; (a) Welcome and Introductory Remarks; (b) Review and Approve Minutes of Previous Meeting; (c) Review New Process; (d) Review Status of Certification Authorities Software Team (CAST) & FAA Notices; (e) Review Reports of Editorial and Executive Committees, Issue List and Matrix, Subgroup Executive Summaries, and CNS/ATM; (f) Preliminary Assessment of Papers (Stand-up Plenary Model); (g) Subgroup working sessions begin. March 7: 8:30 a.m. (2) Subgroup working sessions. March 8: 8:30 a.m. (3) Plenary Session reconvenes: (a) Plenary Approval Vote on Frequently Asked Questions (FAQ) & Discussion Papers (DP) seen Monday: (b) Plenary Assessment of New FAQs & DPs; 1 p.m. (4) Subgroup working sessions reconvene. March 9: (5) Subgroup working sessions continue. March 10: (6) Plenary Approval Process begins; (7) New Business; (8) Review Action Items and Plans; (9) Date and Location of Next Meeting; (10) Closing.

Attendance is open to the interested public but limited to space availability. With the approval of the chairman, members of the public may present oral statements at the meeting. Persons wishing to present statements or obtain information should contact the RTCA Secretariat, 1140 Connecticut Avenue, NW., Suite 1020, Washington, DC. 20036; (202) 833-9339 (phone); (202) 833-9434 (fax); or http://www.rtca.org (web site) or point of contact on-site: Mr. E.W. Piper at (562) 593-1029 (phone); elmo.w.piper@boeing.com (email). Members of the public may present a written statement to the committee at any time.

Dated: Issued in Washington, DC, on February 4, 2000.
Janice L. Peters,
Designated Official.

[FR Doc. 00-3080 Filed 2-9-00; 8:45 am]

BILLING CODE 4910-13-M